DEPARTMENT OF THE INTERIOR

National Park Service

[NPS-WASO-NRNHL-22063: PPWOCRADI0, PCU00RP14.R50000]

National Register of Historic Places; Notification of Pending Nominations and Related Actions

AGENCY: National Park Service, Interior.

ACTION: Notice.

SUMMARY: The National Park Service is soliciting comments on the significance of properties nominated before September 24, 2016, for listing or related actions in the National Register of Historic Places.

DATES: Comments should be submitted by November 7, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before September 24, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

COLORADO

Chaffee County

Head Lettuce Day—Collegiate Peaks Stampede Rodeo Grounds, 2001 Gregg Dr., Buena Vista, 16000758

Pine Hall, 43145 Cty. Rd. 397, Granite, 16000759

CONNECTICUT

Fairfield County

Weir Farm National Historic Site, 735 Nod Hill Rd., Wilton, 16000760

LOUISIANA

Natchitoches Parish

Briarwood, 216 Caroline Dorman Rd., Saline, 16000761

MICHIGAN

Wayne County

Starkweather School, 550 N. Holbrook St., Plymouth, 16000762

MISSOURI

Greene County

Heercleff, (Springfield MPS) 6405 S. Campbell Ave., Springfield, 16000763

Jackson County

Creamery Package Manufacturing Company Building, (Railroad Related Historic Commercial and Industrial Resources in Kansas City, Missouri MPS), 1408-1410 W. 12th St., Kansas City, 16000764

VERMONT

Washington County

Vermont State Hospital Historic District, Horseshoe & State Drs., Park Row, Waterbury, 16000765

WISCONSIN

Forest County

Wywialowski, John and Anna, 8680 WI 101, Armstrong Creek, 16000766

Milwaukee County

27th and Wells Streets Commercial Historic District, 757, 760, 800-810, 801-813, 817-831, 820-826 N. 27th St., 2632, 2711 W. Wells St., Milwaukee, 16000767

Sheboygan County

Lueder, Rudolph, 13 Sided Barn, W. 4651 Cty. Rd. J, Plymouth, 16000768

A request to remove has been received for the following resources:

MINNESOTA

Houston County

Eitzen Stone Barn, S. of Eitzen, Eitzen, 82002965

Olmsted County

Pierce House, 426 2nd Ave. SW., Rochester, 80002101

Rice County

Blind Department Building and Dow Hall, State School for the Blind, 400 6th Ave. SE., Faribault, 90001092

Winona County

Bridge No. L1409, Twp. Rd. 62 over Garvin Brook, Winona, 90000978

Authority: 60.13 of 36 CFR part 60.

Dated: September 27, 2016.
J. Paul Loether,
Chief, National Register of Historic Places/National Historic Landmarks Program.

[FR Doc. 2016-25460 Filed 10-20-16; 8:45 am]

BILLING CODE 4312-52-P